NUCLEAR REGULATORY COMMISSION

[NRC-2016-0001]

Sunshine Act Meeting Notice

DATE: 12, 19, 26, 2016, January 2, 9, 16, 2017.

PLACE: Commissioners' Conference Room, 11555 Rockville Pike, Rockville, Maryland.

STATUS: Public and Closed.

Week of December 12, 2016

Thursday, December 15, 2016

9:30 a.m. Briefing on Equal Employment Opportunity, Affirmative Employment, and Small Business (Public Meeting) (Contact: Larniece McKoy Moore: 301-415-1942)

This meeting will be webcast live at the Web address— http://www.nrc.gov/.

Week of December 19, 2016—Tentative

There are no meetings scheduled for the week of December 19, 2016.

Week of December 26, 2016—Tentative

There are no meetings scheduled for the week of December 26, 2016.

Week of January 2, 2017—Tentative

There are no meetings scheduled for the week of January 2, 2017.

Week of January 9, 2017—Tentative

Friday, January 13, 2017

9:00 a.m. Briefing on Operator Licensing Program (Public Meeting) (Contact: Nancy Salgado: 301-415-1324)

This meeting will be webcast live at the Web address— http://www.nrc.gov/.

Week of January 16, 2017—Tentative

There are no meetings scheduled for the week of January 16, 2017.

* * * * *

The schedule for Commission meetings is subject to change on short notice. For more information or to verify the status of meetings, contact Denise McGovern at 301-415-0981 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: December 9, 2016.
Denise L. McGovern,
Policy Coordinator, Office of the Secretary.

[FR Doc. 2016-29959 Filed 12-9-16; 11:15 am]

BILLING CODE 7590-01-P